NATIONAL FOUNDATION ON THE ARTS AND THE HUMANITIES

National Endowment for the Humanities

Agency Information Collection Request; 60-Day Public Comment Request

AGENCY: National Endowment for the Humanities; National Foundation on the Arts and the Humanities.

ACTION: Notice; request for comments.

SUMMARY: In accordance with the Paperwork Reduction Act of 1995, the National Endowment for the Humanities (NEH) is seeking comment concerning a proposed revision to an existing information collection that it uses to solicit grant applications, recruit peer reviewers, and monitor the performance of recipients.

DATES: Please submit comments by March 29, 2021.

ADDRESSES: Submit comments to Mr. Timothy Carrigan, Chief Funding Opportunity Officer, Office of Grant Management, National Endowment for the Humanities: 400 Seventh Street SW, Washington, DC 20506, or tcarrigan@neh.gov.

FOR FURTHER INFORMATION CONTACT: Mr. Timothy Carrigan, Chief Funding Opportunity Officer, Office of Grant Management, National Endowment for the Humanities: 400 Seventh Street SW, Washington, DC 20506, or tcarrigan@neh.gov.

SUPPLEMENTARY INFORMATION:

Overview of This Information Collection

Type of Review: Revision of an existing information collection.

Title of Information Collection: Generic Clearance Authority for the National Endowment for the Humanities.

Abstract: The National Endowment for the Humanities is seeking to renew its generic clearance authority. The generic clearance authority includes all NEH information collections, except one-time evaluations, questionnaires, and surveys.

The proposed revision adjusts the overall burden estimate from 88,815 to 296,433 hours. This estimate reflects the anticipated change in the number of respondents from 7,815 to 6,767 and the updated estimated time per response that more accurately reflects the hours required to complete a grant application. Previously, NEH estimated fifteen hours were needed to complete a grant application. Further study has increased the estimate to sixty hours per proposal. The burden estimate for associated forms and reporting requirements has not changed.

OMB Number: 3136-0134.

Affected Public: Applicants to NEH grant programs, reviewers of NEH grant applications, and NEH award recipients.

Frequency of Collection: On occasion.

Total Respondents: 6,767.

Total Responses: 6,767.

Estimated Time per Response: Varies according to type of information collection.

Estimated Total Burden Hours: 296,433.

Request for Comments

NEH will make comments submitted in response to this notice, including names and addresses where provided, a matter of public record. NEH will summarize the contents and include them in the request for OMB approval. We are requesting comments on all aspects of this clearance request, including (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on respondents, including through the use of appropriate automated, electronic, mechanical, or other technological collection techniques or other forms of information technology.

Dated: January 15, 2021.
Caitlin Cater,
Attorney-Advisor, National Endowment for the Humanities.

[FR Doc. 2021-01743 Filed 1-26-21; 8:45 am]

BILLING CODE 7536-01-P